DEPARTMENT OF COMMERCE

National Oceanic and Atmospheric Administration

50 CFR Part 635

[Docket No. 120328229-5064-03]

RIN 0648-BC09

Atlantic Highly Migratory Species; 2006 Consolidated Atlantic Highly Migratory Species (HMS) Fishery Management Plan; Amendment 7; Correction

AGENCY: National Marine Fisheries Service (NMFS), National Oceanic and Atmospheric Administration (NOAA), Commerce.

ACTION: Final rule; correcting amendment.

SUMMARY: This action corrects a typographical error that appeared in the final rule implementing Amendment 7 to the 2006 Consolidated Atlantic Highly Migratory Species Fishery Management Plan (2006 Consolidated HMS FMP) that published in the Federal Register on December 2, 2014 (79 FR 71510). Specifically, this rule corrects one of the coordinates in the definition of the Cape Hatteras Gear Restricted Area (GRA) to make the geographic area in the definition match the geographic area analyzed and identified in all of the Amendment 7 documents.

DATES: This rule is effective February 4, 2015.

FOR FURTHER INFORMATION CONTACT: Thomas Warren or Brad McHale at 978-281-9260.

SUPPLEMENTARY INFORMATION: NMFS implemented Amendment 7 to the 2006 Consolidated HMS FMP through a final rule that published on December 2, 2014 (79 FR 71510) and that was effective January 1, 2015, except for § 635.9(b)(2)(ii) and (e)(1), which are effective June 1, 2015; and § 635.15(b)(3), (4)(ii), and (5)(i), which are effective January 1, 2016. The December 2 final rule added regulatory text at § 635.2 to define, among other things, “Cape Hatteras gear restricted area.” In that definition at § 635.2, however, the sixth point of the geographic boundaries of the restricted area was incorrectly listed as “34°30′ N. lat., 74°20′ W. long.” Instead, it should be “35°30′ N. lat., 74°20′ W. long.″ Thus, NMFS corrects the Cape Hatteras GRA definition at § 635.2.

This correction does not make any substantive change to the specific area presented and analyzed by NMFS in the Amendment 7 Final Environmental Impact Statement (FEIS) issued in August 2014 and included in permit holder letters and other outreach materials issued in December 2014, which contained the details and/or images of the correct area (i.e., the coordinates used in those materials were correct). It only corrects an error in one of the coordinates published in the regulatory text of the definitions section of the final rule (79 FR 71510, December 2, 2014).

This correction is necessary so that pelagic longline fishermen are allowed to fish as intended by NMFS in preparing the FEIS and the final rule, in the area outside the eastern and southern boundaries of the Cape Hatteras GRA, as corrected, without being subject to the regulations that would apply within the GRA.

Classification

The Assistant Administrator (AA) for Fisheries, NOAA, finds that pursuant to 5 U.S.C. 553(b)(B), there is good cause to waive prior notice and an opportunity for public comment on this action, as notice and comment would be impracticable and contrary to the public interest. This document corrects the definition of the Cape Hatteras GRA by specifically correcting one of the coordinates that was incorrect in the December 2, 2014 final rule. The regulations regarding fishing in the Cape Hatteras GRA were effective January 1, 2015. This correction must be implemented in a timely manner so that pelagic longline fishermen are allowed to fish as intended by NMFS in preparing the FEIS and final rule, in the area outside the eastern and southern boundaries of the Cape Hatteras GRA, as corrected, without being subject to the regulations that would apply within the GRA. Implementation as defined in the current version of the regulations could result in unnecessarily restricting fishing in areas not intended to be gear restricted.

The correct coordinates in the final rule have previously been subject to notice and comment procedures through their inclusion in all of the relevant rulemaking documents and related analytical documents. The correction in this action does not make any substantive change to the requirements in the final rule. It only corrects the error in the implementing regulatory text. In addition, NMFS believes it is important for the public to have the correct information as soon as possible and finds no reason to delay its dissemination. Further delay would be contrary to the public interest, since the intended restrictions are not properly defined and, as a result, fishing could be unnecessarily restricted. This could have unintended economic consequences and unintended effects on fishing behavior.

For the reasons stated above, NMFS finds both notice and comment and the 30-day delay in effectiveness to be unnecessary pursuant to 5 U.S.C. 553(b)(B) and 5 U.S.C. 553(d), respectively. Therefore, NMFS finds good cause to waive notice and comment procedures and the 30-day delay in effective date for this correcting amendment.

List of Subjects in 50 CFR Part 635

Fisheries, Fishing, Fishing vessels, Foreign relations, Imports, Penalties, Reporting and recordkeeping requirements, Treaties.

Samuel D. Rauch III,
Deputy Assistant Administrator for Regulatory Programs, National Marine Fisheries Service.

For the reasons set out in the preamble, 50 CFR part 635 is corrected by making the following correcting amendments:

PART 635—ATLANTIC HIGHLY MIGRATORY SPECIES

1. The authority citation for part 635 continues to read as follows:

Authority: 16 U.S.C. 971 et seq.; 16 U.S.C. 1801 et seq.

2. In § 635.2, revise the definition of “Cape Hatteras gear restricted area” to read as follows:

§ 635.2 Definitions.

* * * * *

Cape Hatteras gear restricted area means the area within the Atlantic Ocean bounded by straight lines connecting the following coordinates in the order stated: 34°50′ N. lat., 75°10′ W. long.; 35°40′ N. lat., 75°10′ W. long.; 35°40′ N. lat., 75°00′ W. long.; 37°10′ N. lat., 75°00′ W. long.; 37°10′ N. lat., 74°20′ W. long.; 35°30′ N. lat., 74°20′ W. long.; 34°50′ N. lat., 75°00′ W. long.; 34°50′ N. lat., 75°10′ W. long.

* * * * *

[FR Doc. 2015-01952 Filed 1-29-15; 11:15 am]

BILLING CODE 3510-22-P